ENVIRONMENTAL PROTECTION AGENCY

[FRL-7265-5]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR Chapter 15.

FOR FURTHER INFORMATION CONTACT: Susan Auby at (202) 566-1672, or e-mail at Auby.susan@epa.gov. and please refer to the appropriate EPA Information Collection Request (ICR) Number.

SUPPLEMENTARY INFORMATION:

OMB Responses to Agency Clearance Requests

OMB Approvals

EPA ICR No. 1608.03; State Program Adequacy Determination: Municipal Solid Waste Landfills (MSWLFs) and Non-municipal, Non-hazardous Waste Disposal Units that Receive Conditionally Exempt Small Quantity Generator (CESQG) Hazardous Waste in 40 CFR part 239; was approved 06/21/2002; OMB No. 2050-0152; expires 06/30/2005.

EPA ICR No. 1352.09; Community Right-to-Know Reporting Requirements under section 311 and 312 of the Emergency Planning and Community Right-to-Know (EPCRA); in 40 CFR part 370, and 40 CFR 370.25, 370.30, 370.21(c) (1) & (2); was approved 06/21/2002; OMB No. 2050-0072; expires 10/31/2004.

EPA ICR No. 1985.02; National Emission Standards for Hazardous Air Pollutants (NESHAP) for Leather Finishing Operations in 40 CFR 63.5330-63.5390 and 63.5400-63.5430; was approved 06/12/2002; OMB No. 2060-0478; expires 06/30/2005.

EPA ICR No. 1896.03; Disinfectants/Disinfection Byproducts, Chemical, and Radionuclides Information Collection Request; Unregulated Contaminant Monitoring Regulation List 2 Amendments (proposed rule); was approved 06/17/2002; OMB No. 2040-0204; expires 12/31/2004.

EPA ICR No. 1955.02; Operator Certification Guidelines and Operator Certification Expense Reimbursement Grants Program; OMB No. 2040-0236; expires 06/30/2005.

EPA ICR No. 1877.02; Milestones Plan for the Bleached Papergrade Kraft and Soda Sub-category of the Pulp, Paper, and Paperboard Point Source Category; in 40 CFR 430.24 (b) and (c); OMB No. 2040-0202; expires 06/30/2005.

EPA ICR No. 1829.02; Best Management Practices (BMP) for Bleached Papergrade Kraft and Soda Subcategory and the Papergrade Kraft Sulfite Subcategory of the Pulp, Paper and Paperboard Point Source Category; in 40 CFR 430.03; was approved 06/28/2002; OMB No. 2040-0207; expires 06/30/2005.

EPA ICR No. 0270.41; Public Water systems Supervision Program Public Notification Amendment; in 40 CFR 141.31; 141.33 and 141.201-141.210, 40 CFR 142.14 (f), 142.15 (a), and 142.16(a); was approved 06/28/2002; OMB No. 2040-0090; expires 11/30/2004.

EPA ICR No. 2016.01; Drinking Water Customer Satisfaction Survey; was approved 07/24/2002; OMB No. 2040-0247; expires 05/31/2003.

EPA ICR No. 0969.06; Final Authorization for Hazardous Waste Management in 40 CFR part 271, subpart A, and 40 CFR 271.21, 271.23; was approved 07/25/2002; OMB 2050-0041; expires 07/31/2005.

Comment Filed

EPA ICR No. 2020.01; Federal Implementation Plans under the Clean Air Act for Indian Reservations in Idaho, Oregon, and Washington in 40 CFR 49.121-49.139 and 49.9861-49.17810; on 06/21/2002; OMB filed comment.

Withdrawn/Continued

EPA ICR No. 1591.04; Regulation of Fuels and Fuel Additives; Reformulated Gasoline Terminal Receipt Date; OMB No. 2060-0277; on 06/24/2002 this ICR was withdrawn from OMB review.

Disapproved

EPA ICR No. 2060.01; Cooling Water Intake Structures Existing Facility (Phase II) Proposed Rule; on 06/17/2002 this ICR was disapproved by OMB.

Dated: August 15, 2002.
Oscar Morales,
Director, Collection Strategies Division.

[FR Doc. 02-21442 Filed 8-21-02; 8:45 am]

BILLING CODE 6560-50-P